DEPARTMENT OF JUSTICE

Notice of Lodging of Consent Decree Under Comprehensive Environmental Response, Compensation and Liability Act

Under 28 CFR 50.7, notice is hereby given that on June 27, 2008, a proposed Consent Decree in United States v. Cambrex Corporation, et al., Civil Action No. 08-5815, was lodged with the United States District Court for the Southern District of New York.

The proposed Consent Decree resolves claims of the United States, on behalf of the Environmental Protection Agency (“EPA”), under the Comprehensive Environmental Response, Compensation, and Liability Act (“CERCLA”), 42 U.S.C. 9601 et seq., in connection with the Nepera Chemical Company Superfund Site in the Town of Hamptonburgh, Orange County, New York (“Site”), against Cambrex Corporation; Nepera, Inc.; Warner-Lambert Company LLC; and Pfizer, Inc. The proposed Consent Decree requires the defendants to perform the Remedial Design/Remedial Action (“RD/RA”) set forth in the Record of Decision (“ROD”) for the Site, including (a) The excavation of Site soils within former waste lagoons and placement of the soils into a biocell, using soil vapor extraction and biological degradation technologies to reach target cleanup levels; (b) backfilling of the excavated areas of the Site which are not utilized in the construction of the biocell; (c) bioremediation of the groundwater following the removal of source-area soils by the introduction of oxygenating compounds to facilitate bioremediation through enhancement of the indigenous microbial population; and (d) implementation of a long-term groundwater monitoring program to verify that the concentrations and the areal extent of the groundwater contaminants are declining. The estimated cost of the remedy is $3,815,000. In addition, the Consent Decree requires the defendants to reimburse EPA for its past response costs in the amount of $495,000. The Consent Decree also obligates the defendants to pay the United States' future response costs with respect to the Site, and to implement institutional controls including restrictive covenants and an environmental easement to ensure non-interference with, and the continued effectiveness of, the ROD remedy. The proposed Consent Decree provides that the defendants are entitled to contribution protection as provided by Section 113(f)(2) of CERCLA, 42 U.S.C. 9613(f)(2) for matters addressed by the settlement.

The Department of Justice will receive for a period of 30 days from the date of this publication comments relating to the proposed Consent Decree. Comments should be addressed to the Assistant Attorney General of the Environment and Natural Resources Division, Department of Justice, Washington, DC 20530, and either e-mailed to pubcomment-ees.enrd@usdoj.gov or mailed to P.O. Box 7611, U.S. Department of Justice, Washington, DC 20044-7611, and should refer to United States v. Cambrex Corporation, et al., Civil Action No. 08-5815 (RMB), D.J. Ref. 90-11-3-09274.

The proposed Consent Decree may be examined at the Office of the United States Attorney, Southern District of New York, 86 Chambers Street, New York, New York 10007. During the public comment period, the proposed Consent Decree may also be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the proposed Consent Decree, please enclose a check in the amount of $49.00 (25 cents per page reproduction cost) payable to the U.S. Treasury.

Ronald Gluck,
Assistant Section Chief, Environmental Enforcement Section, Environment and Natural Resources Division.

[FR Doc. E8-15095 Filed 7-3-08; 8:45 am]

BILLING CODE 4410-15-P